DEPARTMENT OF TRANSPORTATION

Federal Aviation Administration

Notice of Passenger Facility Charge (PFC) Approvals and Disapprovals.

AGENCY: Federal Aviation Administration (FAA), DOT.

ACTION: Monthly Notice of PFC Approvals and Disapprovals. In December 2004, there were seven applications approved. This notice also includes information on 10 other applications, one approved in April 2003, one approved in November 2003, one approved in September 2004, four approved in October 2004, and three approved in November 2004, inadvertently left off the April 2003, November 2003, September 2004, October 2004, and November 2004 notices, respectively. Additionally, seven approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: City of Manchester, New Hampshire.

Application Number: 03-10-C-00-MHT.

Application Type: Impose and use a PFC.

PFC Level: $3.00.

Total PFC Revenue Approved in this Decision: $50,662,827.

Earliest Charge Effective Date: December 1, 2013.

Estimated Charge Expiration Date: January 1, 2020.

Class of Air Carriers Not Required To Collect PFCS:

On-demand air taxi/commercial operators.

Determination: Approved. Based on information contained in the public agency's application, the FAA has determined that the approved class accounts for less than 1 percent of the total annual enplanements at Manchester Airport.

Brief Description of Projects Approved for Collection and Use:

Reconstruction and extension of runway 17/35.

Residential and school sound insulation program.

Phase II terminal expansion: construction and construction management.

Phase II terminal expansion: design fees.

Phase II terminal expansion.

PFC application and development.

Decision Date: April 1, 2003.

FOR FURTHER INFORMATION CONTACT: Priscilla Scott, New England Region Airports Division, (781) 238-7614.

Public Agency: Salt Lake City Department of Airports, Salt Lake City, Utah.

Application Number: 03-08-C-00-SLC.

Application Type: Impose and use a PFC.

PFC Level: $4.50.

Total PFC Revenue Approved in this Decision: $7,520,800.

Earliest Charge Effective Date: August 1, 2006.

Estimated Charge Expiration Date: November 1, 2006.

Class of Air Carriers Not Required to Collect PFC's:

Air taxi/commercial operators filing or required to file FAA Form 1800-31.

Determination: Approved. Based on information contained in the public agency's application, the FAA has determined that the approved class accounts for less than 1 percent of the total annual enplanements at Salt Lake City International Airport (SLC).

Brief Description of Projects Approved for Collection at SLC and Use at SLC at a $4.50 PFC Level:

Apron D rehabilitation (east).

Taxiway M reconstruction.

West apron paving (phase III) and supporting infrastructure.

Brief Description of Projects Approved for Collection at SLC and Use at SLC at a $3.00 PFC Level:

Airfield equipment.

Electronic visual information display systems upgrade.

East side oil/water separator.

Airport layout plan/environmental update (phase II).

Brief Description of Projects Approved for Collection at SLC and Use at Bolinder Field—Tooele Valley Airport at a $4.50 PFC Level:

Install automated weather observing system.

Land acquisition (Palmer Acres).

Brief Description of Disapproved Project:

Park and wait sign.

Determination: This project exceeds what is necessary to facilitate the movement of passengers and baggage and does not meet the intent of paragraphs 601 or 620 of FAA Order 5100.38B, Airport Improvement Program (AIP) Handbook (May 31, 2002).

Decision Date: November 19, 2003.

FOR FURTHER INFORMATION CONTACT: Christopher J. Schaffer, Denver Airports District Office, (303) 342-1258.

Public Agency: Bert Mooney Airport Authority, Butte, Montana.

Application Number: 04-06-C-00-BTM.

Application Type: Impose and use a PFC.

PFC Level: $3.00.

Total PFC Revenue Approved in This Decision: $189,711.

Charge Effective Date: April 1, 2005.

Estimated Charge Expiration Date: February 1, 2007.

Class of Air Carriers not Required to Collect PFC's:

Air taxi/commercial operators filing FAA Form 1800-31.

Determination: Approved. Based on information contained in the public agency's application, the FAA has determined that the approved class accounts for less than 1 percent of the total annual enplanements at Bert Mooney Airport.

Brief Description of Projects Approved for Collection and Use:

Security planning.

Snow removal equipment acquisition.

Snow removal equipment building construction.

West general aviation ramp rehabilitation.

Southside security improvement.

Airport master plan update.

Runway 15/33 pavement maintenance.

Runway 11/29 pavement maintenance.

Commercial ramp pavement maintenance.

Decision Date: September 29, 2004.

FOR FURTHER INFORMATION CONTACT: David S. Stelling, Helena Airports District Office, (406) 449-5271.

Public Agency: Pitken County, Aspen, Colorado.

Application Number: 04-05-C-00-ASE.

Application Type: Impose and use a PFC.

PFC Level:$4.50.

Total PFC Revenue Approved in This Decision: $2,274,162.

Earliest Charge Effective Date: January 1, 2005.

Estimated Charge Expiration Date: November 1, 2009.

Class of Air Carriers Not Required to Collect PFC's:

Air taxi/commercial operators filing FAA Form 1800-31.

Determination: Approved. Based on information contained in the public agency's application, the FAA has determined that the approved class accounts for less than 1 percent of the total annual enplanements at Aspen/Pitken County Airport.

Brief Description of Projects Approved for Collection and Use:

Aircraft rescue and firefighting/snow removal equipment building design.

North general aviation apron.

Taxiway A relocation.

Snow removal equipment.

Land purchase.

Localizer.

Decision Date: October 5, 2004.

FOR FURTHER INFORMATION CONTACT: Christopher J. Schaffer, Denver Airports District Office, (303) 342-1258.

Public Agency: Sheridan County, Sheridan, Wyoming.

Application Number: 04-03-C-00-SHR.

Application Type: Impose and use a PFC.

PFC Level: $4.50.

Total PFC Revenue Approved in This Decision: $247,309.

Earliest Charge Effective Date: March 1, 2005.

Estimated Charge Expiration Date: December 1, 2019.

Classes of Air Carriers Not Required to Collect PFC'S: None.

Brief Description of Projects Approved for Collection and use:

Perimeter fencing.

Land acquisition for approaches (easements).

Reconstruction of parallel taxiway A.

Reconstruct commercial apron.

Airport layout plan update.

Snow removal equipment.

Security gates.

Decision Date: October 5, 2004.

FOR FURTHER INFORMATION CONTACT: Christopher J. Schaffer, Denver Airports District Office, (303) 342-1258.

Public Agency: City of Lubbock, Texas.

Application Number: 04-05-C-00-LBB.

Application Type: Impose and use a PFC.

PFC Level: $2.00.

Total PFC Revenue Approved in This Decision: $3,2927,686.

Earliest Charge Effective Date: February 1, 2005.

Estimated Charge Expiration Date: February 1, 2009.

Classes of Air Carriers Not Required to Collect PFC'S:

(1) On demand Part 135 air taxi/commercial operators filing FAA Form 1800-31; (2) commuters and small air carriers filing Department of Transportation Form 298C for unscheduled enplanements; (3) large certificated route air carriers filing Research and Special Programs Administration Form T-100 for unscheduled enplanements.

Determination: Approved. Based on information contained in the public agency's application, the FAA has determined each of the approved class accounts for less than 1 percent of the total annual enplanements at Lubbock International Airport.

Brief Description of Projects Approved for Collection and Use:

PFC administrative costs.

Extend taxiway L.

Upgrade perimeter security access control.

Upgrade access control/closed-circuit television.

Rehabilitiate airside asphalt pavement.

Replace airfield pavement surface sensor system.

Rehabilitate airfield guidance signage panels and upgrade electrical vault.

Brief Description of Project Partially Approved for Collection and Use:

Acquire airside equipment.

Determination: The operations vehicle proposed to be acquired with PFC revenue is not an identified element of the Airport Certification Manual and, therefore, not PFC eligible.

Decision Date: October 21, 2004.

FOR FURTHER INFORMATION CONTACT: G. Thomas Wade, Southwest Region Airports Division, (817) 222-5613.

Public Agency: Walker Field Airport Authority, Grand Junction, Colorado.

Application Number: 04-06-U-00-GJT.

Application Type: Use PFC revenue.

PFC Level: $3.00.

Total PFC Revenue to be Used in This Decision: $200,000.

Charge Effective Date: November 1, 2001.

Estimated Charge Expiration Date: September 1, 2006.

Class of Air Carriers not Required to Collect PFC's: No change from previous decision.

Brief Description of Project Approved for use: Air carrier ramp expansion.

Decision Date: October 26, 2004.

FOR FURTHER INFORMATION CONTACT: Chris Schaffer, Denver Airports District Office, (303) 342-1258.

SUPPLEMENTARY INFORMATION:

Public Agency: Salt Lake City Department of Airports, Salt Lake City, Utah.

Application Number: 03-09-C-00-SLC.

Application Type: Impose and use a PFC.

PFC Level: $4.50.

Total PFC Revenue Approved in This Decision: $25,265,000.

Earliest Charge Effective Date: November 1, 2006.

Estimated Charge Expiration Date: September 1, 2007.

Class of Air Carriers not Required to Collect PFC's:

Air taxi/commercial operators filing or required to file FAA Form 1800-31.

Determination: Approved. Based on information contained in the public agency's application, the FAA has determined that the approved class accounts for less than 1 percent of the total annual enplanements at Salt Lake City International Airport.

Brief Description of Projects Approved for Collection and use at a $4.50 PFC Level:

Concourse E improvements.

Concourse B remodel.

Terminal unit 2 east expansion.

Terminal unit 1 baggage claim expansion.

Brief Description of Projects Approved for Collection and use at a $3.00 PFC Level:

Terminal unit 2 outbound baggage system.

Airfield equipment.

Brief Description of Disapproved Project:

Glycol land application piping.

Determination: This project exceeds standard methods used for the storage and processing of deicing fluids.

Decision Date: November 16, 2004.

FOR FURTHER INFORMATION CONTACT: Christopher J. Schaffer, Denver Airports District Office, (303) 342-1258.

Public Agency: Port of Pasco, Pasco, Washington.

Application Number: 04-06-C-00-PSC.

Application Type: Impose and use a PFC.

PFC Level: $4.50.

Total PFC Revenue Approved in This Decision: $4,599,230.

Earliest Charge Effective Date: October 1, 2006.

Estimated Charge Expiration Date: January 1, 2012.

Class of Air Carriers not Required to Collect PFC's:

None.

Brief Description of Projects Approved for Collection and use:

Mobile passenger lift.

Terminal building passenger ticket lobby expansion.

Terminal apron reconstruction.

Snow and ice removal equipment.

PFC administration/formulation costs.

Decision Date: November 18, 2004.

FOR FURTHER INFORMATION CONTACT: Suzanne Lee-Pang, Seattle Airports District office, (425) 227-2654.

Public Agency: Port of Chelan County and Port of Douglas County, Wenatchee, Washington.

Application Number: 04-06-C-00-EAT.

Application Type: Impose and use a PFC.

PFC Level: $4.50.

Total PFC Revenue Approved in This Decision: $356,000.

Earliest Charge Effective Date: February 1, 2005.

Estimated Charge Expiration Date: September 1, 2007.

Class of Air Carriers not Required to Collect PFC'S: None.

Brief Description of Projects Approved for Collection and Use:

Acquire Feil-Vickery parcel.

Phase II security fencing and gates.

Decision Date: November 23, 2004.

FOR FURTHER INFORMATION CONTACT: Suzanne Lee-Pang, Seattle Airports District Office, (425) 227-2654.

Public Agency: City of San Antonio, Texas.

Application Number: 04-03-U-00-SAT.

Application Type: Use PFC revenue.

PFC Level: $3.00.

Total PFC Revenue to be Used in This Decision: $2,400,000.

Estimated Charge Effective Date: November 1, 2001.

Estimated Charge Expiration Date: November 1, 2009.

Class of Air Carriers not Required to Collect PFC's:No change from previous decision.

Brief Description of Project Approved for Use: Residential noise attenuation.

Decision Date: December 1, 2004.

FOR FURTHER INFORMATION CONTACT: G. Thomas Wade, Southwest Region Airports Division, (817) 222-5613.

Public Agency: City of Phoenix, Arizona.

Application Number: 04-07-C-00-PHX.

Application Type: Impose and use a PFC.

PFC Level: $4.50.

Total PFC Revenue Approved in this Decision: $177,800,000.

Earliest Charge Effective Date: November 1, 2005.

Estimated Charge Expiration Date: February 1, 2008.

Classes of Air Carriers Not Required to Collect PFC's:

(1) Nonscheduled/on-demand air carriers filing FAA Form 1800-31; (2) commuters or small certificated air carriers filing Department of Transportation Form 298-C T1 or E1 with less than 7,500 annual enplanements at Phoenix Sky Harbor International Airport (PHX); (3) large certified route air carriers filing Research and Special Programs Administration Form T-100 with less than 7,500 annual enplanements at PHX.

Determination: Approved. Based on information contained in the public agency's application, the FAA has determined each the approved class accounts for less than 1 percent of the total annual enplanements at PHX.

Brief Description of Projects Approved for Collection and use at a $4.50 PFC Level:

Community noise reduction program (voluntary land acquisition/property exchange).

Terminal 4 expansion.

Airside reconstruction.

Capital security improvements.

Brief Description of Project Partially Approved for Collection and use at a $3.00 PFC Level:

Automated people mover design completion.

Determination: Approval is limited to the completion of Stage 1 design. In addition, the approved amount does not include any funds identified as contingencies in the public agency's cost estimate.

Decision Date: December 6, 2004.

FOR FURTHER INFORMATION CONTACT: Mike Agaibi, Western Pacific Region Airports Division, (301) 725-3632.

Public Agency: Broward County Aviation Department, Fort Lauderdale, Florida.

Application Number: 04-06-C-00-FLL.

Application Type: Impose and use a PFC.

PFC Level: $3.00

Total PFC Revenue Approved in This Decision: $49,460,781.

Earliest Charge Effective Date: February 1, 2012.

Estimated Charge Expiration Date: February 1, 2014.

Class of Air Carriers not Required to Collect PFC's: Air taxi/commercial operators.

Determination: Approved. Based on information contained in the public agency's application, the FAA has determined that the approved class accounts for less than 1 percent of the total annual enplanements at Fort Lauderdale-Hollywood International Airport.

Brief Description of Project Approved for Collection and Use: Terminal 4.

Brief Description of Project Approved for Use: Exit roadways—final design/construction.

Decision Date: December 21, 2004.

FOR FURTHER INFORMATION CONTACT: Miguel A. Martinez, Orlando Airports District Office, (407) 812-6331, extension 123.

Public Agency: City of Atlanta, Georgia.

Application Number: 05-07-U-00-ATL.

Application Type: Use PFC revenue.

PFC Level: $4.50.

Total PFC Revenue to be Used in This Decision: $30,721,000.

Estimated Charge Effective Date: May 1, 2005.

Estimated Charge Expiration Date: August 1, 2018.

Class of Air Carriers not Required to Collect PFC's: No change from previous decision.

Brief Description of Project Approved for Use: End around taxiway.

Decision Date: December 21, 2004.

FOR FURTHER INFORMATION CONTACT: Philip R. Cannon, Atlanta Airports District Office, (404) 305-7152.

Public Agency: Hattiesburg-Laurel Regional Airport Authority, Moselle, Mississippi.

Application Number: 04-05-C-00-PIB.

Application Type: Impose and use a PFC.

PFC Level: $4.50.

Total PFC Revenue Approved in This Decision: $216,155.

Earliest Charge Effective Date: April 1, 2006.

Estimated Charge Expiration Date: April 1, 2009.

Class of Air Carriers not Required to Collect PFC's: None.

Brief Description of Project Approved for Collection and Use: Acquire and expand existing terminal telescoping walkway.

Decision Date: December 21, 2004.

FOR FURTHER INFORMATION CONTACT: Patrick D. Vaught, Jackson Airports District Office, (601) 664-9900.

Public Agency: Onslow County Board of Commissioners, Jacksonville, North Carolina.

Application Number: 04-02-C-00-OAJ.

Application Type: Impose and use a PFC.

PFC Level: $3.00

Total PFC Revenue to be Used in This Decision: $667,815.

Earliest Charge Effective Date: March 1, 2005.

Estimated Charge Expiration Date: April 1, 2006.

Class of Air Carriers not Required to Collect PFC's: None.

Brief Description of Project Approved for Collection and Use:

Aircraft rescue and firefighting equipment.

Landside signage.

Terminal renovation.

Master plan update.

Aircraft rescue and firefighting vehicles.

Security vehicles.

Runway 5/23 rehabilitation.

Terminal access road and emergency access road rehabilitation.

Beacon rehabilitation.

Wind cone relocation.

Security gate rehabilitation.

Aircraft rescue and firefighting multipurpose complex.

Rehabilitate general aviation apron.

Snow removal equipment.

Security system improvements.

Airfield electrical and vault improvements.

Obstruction removal.

Apron lighting.

Airfield drainage improvements.

General aviation apron expansion.

T-Hangar/corporate hangar taxi lanes.

Economic impact study.

Passenger lift device.

Air carrier apron expansion.

PFC amendment/application development.

PFC program administration.

Brief Description of Projects Partially Approved for Collection and Use:

T-Hangar/corporate hangar access road.

Determination: The parking lot portion of this project is disapproved in accordance with paragraph 301 of FAA Order 5100.38B, AIP Handbook (May 31, 2002).

General aviation terminal access road and public parking.

Determination: The parking lot portion of this project is disapproved in accordance with paragraph 301 of FAA Order 5100.38B, AIP Handbook (May 31, 2002).

Brief Description of Disapproved Project: Disadvantaged business enterprise program.

Determination: The FAA has determined that this project is an administrative element of AIP grant approvals. Administrative elements of AIP grant approvals do not meet the project eligibility requirements of § 158.15.

Brief Description of Withdrawn Project:

General aviation terminal.

Determination: This project was withdrawn by the public agency on October 6, 2004.

Decision Date: December 21, 2004.

FOR FURTHER INFORMATION CONTACT: Tracie D. Kleine, Atlanta Airports District Office, (404) 305-7148.

Public Agency: Susquehanna Area Regional Airport Authority, Harrisburg, Pennsylvania.

Application Number: 04-05-C-00-MDT.

Application Type: Impose and use a PFC.

PFC Level: $4.50.

Total PFC Revenue Approved in This Decision: $22,859,000.

Earliest Charge Effective Date: November 1, 2029.

Estimated Charge Expiration Date: July 1, 2034.

Class of Air Carriers Not Required To Collect PFCs.

Nonscheduled/on-demand air carriers.

Determination: Approved. Based on information contained in the public agency's application, the FAA has determined that the approved class accounts for less than 1 percent of the total annual enplanements at Harrisburg International Airport.

Brief Description of Projects Approved for Collection and Use:

Construct terminal apron.

PFC application development.

Decision Date: December 28, 2004.

FOR FURTHER INFORMATION CONTACT: Loni Ledebohm, Harrisburg Airports District Office, (717) 730-2835.

AMENDMENTS TO PFC APPROVALS
Amendment No. City, State | Amendment approved date | Original approved net PFC revenue ($) | Amended approved net PFC revenue ($) | Original estimated charge exp. date | Amended estimated c harge exp. date
02-01-C-01-COU, Columbia, MO | 09/01/04 | 1,363,791 | 1,343,791 | 10/01/12 | 10/01/12
9910-03-C-02-PSC, Pasco, WA | 09/07/04 | 951,890 | 1,045,537 | 12/01/02 | 04/01/03
97-03-C-03-TOL, Toledo, OH | 09/24/04 | 6,750,400 | 5,642,872 | 12/01/03 | 01/01/04
95-03-C-02-SBP, San Luis Obispo, CA | 11/23/04 | 571,447 | 611,447 | 07/01/97 | 07/01/97
02-06-C-02-MSY, New Orleans, LA | 11/24/04 | 171,876,315 | 252,881,667 | 05/01/11 | 03/01/15
97-02-C-05-LAW, Lawton, OK | 11/27/04 | 405,200 | 380,745 | 08/01/00 | 08/01/00
02-03-C-01-LAW, Lawton, OK | 11/27/04 | 361,000 | 303,687 | 03/01/04 | 03/01/04

Issued in Washington, DC on August 1, 2005.
Joe Hebert,
Manager, Financial Analysis and Passenger Facility Charge Branch.

[FR Doc. 05-15558 Filed 8-5-05; 8:45 am]

BILLING CODE 4910-13-M